DEPARTMENT OF AGRICULTURE

Commodity Credit Corporation

Farm Service Agency

Report of Acreage, Noninsured Crop Disaster Assistance Program

AGENCY: Commodity Credit Corporation and Farm Service Agency, USDA.

ACTION: Notice; request for comments.

SUMMARY: In accordance with the Paperwork Reduction Act of 1995, the Commodity Credit Corporation (CCC) and the Farm Service Agency (FSA) are seeking comments from all interested individuals and organizations on an extension of a currently approved information collection associated with the report of acreage for the Noninsured Crop Disaster Assistance Program (NAP). This information collection is needed to administer the program.

DATES: We will consider comments that we receive by January 13, 2012.

ADDRESSES: We invite you to submit comments on this notice. In your comments, include date, OMB control number, volume, and page number of this issue of the Federal Register. You may submit comments by any of the following methods:

• Federal eRulemaking Portal: Go to http://www.regulations.gov. Follow the online instructions for submitting comments.

• Mail: USDA Farm Service Agency, ATTN: Jantrice Williams, Agriculture Program Specialist, CPS, Farm Programs, Production Emergencies and Compliance Division, 1400 Independence Avenue SW., STOP 0517, Washington, DC 20250-0523.

• Email: Send comment to: jantrice.williams@wdc.usda.gov.

• Fax: (202) 720-4941.

Comments also should be sent to the Desk Officer for Agriculture, Office of Information and Regulatory Affairs, Office of Management and Budget, Washington, DC 20503.

FOR FURTHER INFORMATION CONTACT: Jantrice Williams, Agriculture Program Specialist, (202) 720-3637.

SUPPLEMENTARY INFORMATION:

Description of Information Collection

Title: Report of Acreage for the Noninsured Crop Disaster Assistance Program (NAP).

OMB Control Number: 0560-0004.

Expiration Date: 01/31/2012.

Type of Request: Extension.

Abstract: NAP provides financial assistance to producers who have suffered a production loss of an eligible crop or were prevented from planting an eligible crop as a result of natural disasters. Eligible crops are commercial crops or other agricultural commodities for which catastrophic risk protection under 7 U.S.C. 1508(b) is not available and that are produced for food or fiber. Additionally, eligible crops also include floricultural, ornamental nursery, and Christmas tree crops, turfgrass sod, seed crops, and aquaculture. Specific information is collected from producers on identification of the crop (including type and variety), practices, intended uses, planting patterns, and predominant species of forage vegetation (including intended method of harvest, i.e. mechanically harvested or grazed); dates crops were planted or planting was completed (including age of perennial crops); number of acres of each planting of the eligible crop in which the producer has a share in the administrative county; number of acres intended but prevented from being planted; zero acres planted when the crop for which a NAP application for coverage was filed, or is not planted; shares and identities of all producers sharing in the crop at the time a NAP application for coverage was filed; FSA farm serial number or location of commodities not necessarily associated with an FSA farm serial number such as colonies of bees for honey production (including the number of bee colonies belonging to the unit); aquaculture production (including the name, type, or variety of each aquaculture species in a physical location of acreage on which the facility resides such as ponds and waterbeds); ornamental nursery (including the size and origin, i.e. container or field grown, of plants belonging to the unit); mushroom facilities; turfgrass sod (including the average number of square yards per acre and all unharvested acres); and trees for maple sap production (including number of eligible trees, average size and age of producing trees, and total number of taps placed or anticipated for the tapping season). NAP operates under the regulations at 7 CFR part 1437.

Respondents: Producers.

Estimated of Respondent Burden: Public reporting burden for this collection of information is estimated to average 45 minutes (.75 hour) per response. The average travel time, which is included in the total burden, is estimated to be 1 hour per respondent.

Estimated Annual Number of Respondents: 291,500.

Estimated Annual Number of Forms per person: 1.5.

Estimate of Total Annual Burden: 619,438.

We are requesting comments on all aspects of this information collection and to help us to:

(1) Evaluate whether the collection of information is necessary for the proper performance of the functions of the FSA, including whether the information will have practical utility;

(2) Evaluate the accuracy of the FSA's estimate of burden including the validity of the methodology and assumptions used;

(3) Enhance the quality, utility and clarity of the information to be collected;

(4) Minimize the burden of the collection of information on those who are to respond, including through the use of appropriate automated, electronic, mechanical, or other technological collection techniques or other forms of information technology.

All comments received in response to this notice, including names and addresses when provided, will be a matter of public record. Comments will be summarized and included in the submission for Office of Management and Budget approval.

Signed on November 7, 2011.
Bruce Nelson,
Administrator, Farm Service Agency.

[FR Doc. 2011-29290 Filed 11-10-11; 8:45 am]

BILLING CODE 3410-05-P